DEPARTMENT OF AGRICULTURE

Animal and Plant Health Inspection Service

[Docket No. APHIS-2020-0061]

Notice of Decision To Authorize the Importation of Fresh Mango Fruit From Colombia Into the United States

AGENCY: Animal and Plant Health Inspection Service, USDA.

ACTION: Notice.

SUMMARY: We are advising the public of our decision to authorize the importation into the United States of fresh mango fruit from Colombia. Based on the findings of a pest risk analysis, which we made available to the public for review and comment through a previous notice, we have determined that the application of one or more designated phytosanitary measures will be sufficient to mitigate the risks of introducing or disseminating plant pests or noxious weeds via the importation of fresh mango fruit from Colombia.

DATES: Imports may be authorized beginning November 22, 2021.

FOR FURTHER INFORMATION CONTACT: Ms. Claudia Ferguson, Senior Regulatory Policy Specialist, Regulatory Coordination and Compliance, Imports, Regulations, and Manuals, PPQ, APHIS, 4700 River Road, Unit 133, Riverdale, MD 20737-1231; (301) 851-2352; claudia.ferguson@usda.gov.

SUPPLEMENTARY INFORMATION:

Background

Under the regulations in “Subpart L-Fruits and Vegetables” (7 CFR 319.56-1 through 319.56-12, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under the process, APHIS proposes to authorize the importation of a fruit or vegetable into the United States if, based on the findings of a pest risk analysis, we determine that the measures can mitigate the plant pest risk associated with the importation of that fruit or vegetable. APHIS then publishes a notice in the Federal Register announcing the availability of the pest risk analysis that evaluates the risks associated with the importation of that fruit or vegetable.

In accordance with that process, we published a notice ¹ in the Federal Register on May 12, 2021 (86 FR 25998-25999, Docket No. APHIS-2020-0061), in which we announced the availability, for review and comment, of a PRA that evaluated the risks associated with the importation into the United States of fresh mango fruit from Colombia. The PRA consisted of a risk assessment identifying pests of quarantine significance that could follow the pathway of importation of fresh mango fruit from Colombia and a risk management document (RMD) identifying phytosanitary measures to be applied to that commodity to mitigate the pest risk.

¹ To view the notice, supporting documents, and the comments we received, go to www.regulations.gov. Enter APHIS-2020-0061 in the Search field.

We solicited comments on the notice for 60 days ending July 12, 2021. We received two comments by that date, one from a Colombian government ministry and the other from the national plant protection organization (NPPO) of Colombia.

The commenter representing the government ministry expressed unqualified support for the notice.

The commenter representing the NPPO asked that we change the density of trapping for fruit flies. We had proposed 2 traps per hectare; the commenter instead asked for 2 traps every 20 hectares with a minimum of 2 traps per place production. The commenter also asked that we require 50 percent of the traps to be of the McPhail type and the other half to be of the Jackson type. As support for these requested changes to the requirements, the commenter cited technical guidelines issued by the International Atomic Energy Agency.²

² Trapping guidelines for area-wide fruit fly programmes. Available at https://www-pub.iaea.org/MTCD/Publications/PDF/TG-FFP_web.pdf.

We agree with the change to trap density requirements proposed by the commenter; these revised requirements will be specified in the operational workplan. As specified in the RMD, the NPPO is required to maintain an APHIS-approved quality control program to monitor or audit the trapping program, including records of trap placement, checking of traps, and any fruit fly captures, with the specific requirements regarding trap density specified in the operational workplan, which must be approved by APHIS.

The same commenter also asked that we change the requirements for treatment certification so that the Colombian NPPO, instead of APHIS inspectors, inspects and preclears each consignment of mango fruit that receives the APHIS-approved hot water treatment. As part of the commenter's request, APHIS' role would consist of an initial visit to approve the program and subsequent visits for any cases of program non-compliance.

We are making no changes in response to the treatment requirement certification as requested by the commenter. In accordance with longstanding policy, APHIS requires oversight of offshore treatments by APHIS officers, including hot water treatment of mango fruit from Colombia, with details specified in the operational workplan.

Therefore, in accordance with the regulations in § 319.56-4(c)(3)(iii), we are announcing our decision to authorize the importation into the United States of fresh mango fruit from Colombia subject to the following phytosanitary measures:

• The NPPO of Colombia must enter into an operational workplan with APHIS that spells out the daily procedures the NPPO will take to implement the below measures.

• Only commercial consignments of mango fruit may be imported.

• All growers must be registered with the NPPO and follow operational workplan requirements for suppression of fruit flies.

• The NPPO must monitor the system for inspection, packing, wrapping, transportation, and loading of the commodity and ensure that participating growers are following the program guidelines.

• Packinghouses must be registered and approved by the NPPO and meet the requirements listed in the operational workplan.

• The NPPO is expected to maintain program records for at least 1 year and provide them to APHIS upon request.

• The NPPO or its designate must conduct a fruit fly trapping program for the detection of Anastrepha spp. and Medfly (Ceratitis capitata) at each production site. Details of trap placement, checking of traps, trap density, and remedial fruit fly control measures will be included in the operational workplan. The NPPO must maintain an APHIS-approved quality control program to monitor or audit the trapping program and maintain records of trap placement, checking of traps, and any fruit fly captures. The trapping records must be maintained for at least 1 year and provided to APHIS upon request.

• The mangos must be treated with an APHIS-approved treatment for Anastrepha spp. fruit flies and Medfly (Ceratitis capitata). Either:

○ Hot water treatment, T102-a, which is only available for use in a preclearance program in accordance with 7 CFR part 305. Each consignment of fruit treated with the APHIS-approved hot water treatment must be precleared by APHIS inspectors in Colombia. The treatment must be carried out under the supervision and direction of APHIS and each consignment must be inspected jointly by APHIS and the NPPO. Treatment must occur in a pest-exclusionary treatment facility; or

○ Irradiation treatment, T105-a-1, which requires the fruit to be irradiated with a minimum absorbed dose of 150 Gray for fruit flies and follow the requirements of 7 CFR part 305. If the approved irradiation treatment is applied outside the United States, each consignment of fruit must be precleared by APHIS inspectors in Colombia. Treatment must occur in a pest-exclusionary treatment facility or, if irradiation is to be applied upon arrival in the United States, each consignment of fruit must be inspected by the NPPO prior to departure and accompanied by a phytosanitary certificate issued by the NPPO. Mangos intended to be irradiated in the United States must be shipped in APHIS-approved packaging that prevents escape of any Anastrepha spp. or Medfly larvae or adults.

• All hot water or irradiation treatment facilities in Colombia to be used for mangos are subject to APHIS approval. APHIS reserves the right to require oversight visits in the event of pest interceptions or other problems.

• Mango fruit must be safeguarded from exposure to Anastrepha spp. or Medfly from the time of treatment to export. The package containing mango fruit may not contain any other fruit, including mango fruit not qualified for importation into the United States.

• Each consignment must be inspected jointly by inspectors from APHIS and the NPPO and accompanied by a phytosanitary certificate issued by the NPPO.

• If more than one Ceratitis capitata or Anastrepha spp. or one Neosilba glaberrima is detected in a consignment, the consignment may not be exported to the United States.

• Each consignment is subject to inspection at the U.S. ports of entry.

These conditions will be listed in the Fruits and Vegetables Import Requirements database (available at https://epermits.aphis.usda.gov/manual). In addition to these specific measures, fresh mango fruit from Colombia will be subject to the general requirements listed in § 319.56-3 that are applicable to the importation of all fruits and vegetables.

Paperwork Reduction Act

In accordance with the Paperwork Reduction Act of 1995 (44 U.S.C. 3501 et seq.), the recordkeeping and burden requirements associated with this action are covered under the Office of Management and Budget control number 0579-0049, which is updated every 3 years during the required renewal period. We estimate the total annual burden to be 986 hours.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Paperwork Reduction Act Coordinator, at (301) 851-2483.

Congressional Review Act

Pursuant to the Congressional Review Act (5 U.S.C. 801 et seq.), the Office of Information and Regulatory Affairs designated this action as not a major rule, as defined by 5 U.S.C. 804(2).

Authority: 7 U.S.C. 1633, 7701-7772, and 7781-7786; 21 U.S.C. 136 and 136a; 7 CFR 2.22, 2.80, and 371.3.

Done in Washington, DC, this 16th day of November 2021.
Michael Watson,
Acting Administrator, Animal and Plant Health Inspection Service.

[FR Doc. 2021-25361 Filed 11-19-21; 8:45 am]

BILLING CODE 3410-34-P